DEPARTMENT OF ENERGY

Federal Energy Regulatory Commission

[Project No. 12139-001]

Public Utility District No. 1 of Franklin Count; Notice of Surrender of Preliminary Permit

November 14, 2003.

Take notice that Public Utility District No. 1 of Franklin County, permittee for the proposed EBC 625 Hydroelectric Project, has requested that its preliminary permit be terminated. The permit was issued on April 19, 2002, and would have expired on March 31, 2005.¹ The project would have been located at Station 625+00 on Eltopia Branch Canal in Franklin County, Washington.

¹ 99 FERC ¶ 62,049.

The permittee filed the request on July 1, 2003, and the preliminary permit for Project No. 12139 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. E3-00342 Filed 11-20-03; 8:45 am]

BILLING CODE 6717-01-P